DEPARTMENT OF COMMERCE

National Oceanic and Atmospheric Administration

RIN 0648-XD861

Pacific Fishery Management Council; Public Meetings

AGENCY: National Marine Fisheries Service (NMFS), National Oceanic and Atmospheric Administration (NOAA), Commerce.

ACTION: Notice of public meetings.

SUMMARY: The Stock Assessment Review Panels (STAR Panels) will hold work sessions to review stock assessments for canary rockfish and darkblotched rockfish; bocaccio and China rockfish; black rockfish; and widow rockfish and kelp greenling, all of which are open to the public.

DATES: See SUPPLEMENTARY INFORMATION for specific dates and times of the STAR Panel meetings.

ADDRESSES: See SUPPLEMENTARY INFORMATION for specific locations of the STAR Panel meetings.

Council address: Pacific Fishery Management Council (Pacific Council), 7700 NE Ambassador Place, Suite 101, Portland, OR 97220-1384.

FOR FURTHER INFORMATION CONTACT: Dr. Jim Hastie, NMFS Northwest Fisheries Science Center; telephone: (206) 860-3412; or Mr. John DeVore, Pacific Fishery Management Council; telephone: (503) 820-2280.

SUPPLEMENTARY INFORMATION: The dates of the meetings are as follows:

The STAR Panel for canary rockfish and darkblotched rockfish assessments will be held beginning at 8:30 a.m., Monday, April 27, 2015 and end at 5:30 p.m. or as necessary to complete business for the day. The Panel will reconvene on Tuesday, April 28, and will continue through Friday, May 1, beginning at 8:30 a.m. and ending at 5:30 p.m. each day, or as necessary to complete business. The Panel will adjourn on Friday, May 1.

The STAR Panel for bocaccio and China rockfish stock assessments will be held beginning at 8:30 a.m., Monday, July 6, 2015 and end at 5:30 p.m. or as necessary to complete business for the day. The Panel will reconvene on Tuesday, July 7 and will continue through Friday, July 10, beginning at 8:30 a.m. and ending at 5:30 p.m. each day, or as necessary to complete business. The Panel will adjourn on Friday, July 10.

The STAR Panel for the black rockfish stock assessments will be held beginning at 8:30 a.m., Monday, July 20, 2015 and end at 5:30 p.m. or as necessary to complete business for the day. The Panel will reconvene on Tuesday, July 21 and will continue through Friday, July 24, beginning at 8:30 a.m. and ending at 5:30 p.m. each day, or as necessary to complete business. The Panel will adjourn on Friday, July 24.

The STAR Panel for the widow rockfish and kelp greenling stock assessments will be held beginning at 8:30 a.m., Monday, July 27, 2015 and end at 5:30 p.m. or as necessary to complete business for the day. The Panel will reconvene on Tuesday, July 28, and will continue through Friday, July 31, beginning at 8:30 a.m. and ending at 5:30 p.m. each day, or as necessary to complete business. The Panel will adjourn on Friday, July 31.

The locations of the meetings are as follows:

The STAR Panel for canary rockfish and darkblotched rockfish will be held the Hotel Deca, 4507 Brooklyn Avenue NE., Seattle, WA 98105; telephone: (206) 634-2000.

The STAR Panel for the bocaccio and China rockfish stock assessments will be held at the NMFS, Southwest Fisheries Science Center, Santa Cruz Laboratory, 110 Shaffer Road, Santa Cruz, CA 95060; telephone: (831) 420-3900.

The STAR Panels for the black rockfish stock assessments and the widow rockfish and kelp greenling stock assessments will be held at the NMFS, Northwest Fisheries Science Center, Newport Research Station, 2032 SE OSU Drive, Building 955, Newport, OR 97365; telephone: (541) 867-0500.

The purpose of the STAR Panels is to review draft 2015 stock assessment documents and any other pertinent information for new benchmark stock assessments for canary rockfish, darkblotched rockfish, bocaccio, China rockfish, black rockfish, widow rockfish, and kelp greenling; work with the Stock Assessment Teams to make necessary revisions; and produce STAR Panel reports for use by the Pacific Council and other interested persons for developing management recommendations for fisheries in 2017 and beyond. No management actions will be decided by the STAR Panels. The Panel's role will be development of recommendations and reports for consideration by the Pacific Council at its June meeting in Spokane, WA and its September meeting in Sacramento, CA.

Although non-emergency issues not contained in the meeting agenda may come before the STAR Panels participants for discussion, those issues may not be the subject of formal STAR Panel action during these meetings. Panel action will be restricted to those issues specifically listed in this notice and any issues arising after publication of this notice that require emergency action under section 305(c) of the Magnuson-Stevens Fishery Conservation and Management Act, provided the public has been notified of the Panel participants' intent to take final action to address the emergency.

All visitors to the NMFS science centers should bring photo identification to the meeting location. Visitors who are foreign nationals (defined as a person who is not a citizen or national of the United States) will require additional security clearance to access the NOAA facilities. Foreign national visitors should contact Dr. Jim Hastie at (206) 860-3412 at least 2 weeks prior to the meeting date to initiate the security clearance process.

Special Accommodations

This meeting is physically accessible to people with disabilities. Requests for sign language interpretation or other auxiliary aids should be directed to Mr. Kris Kleinschmidt at (503) 820-2425 at least 5 days prior to the meeting date.

Dated: April 8, 2015.
William D. Chappell,
Acting Deputy Director, Office of Sustainable Fisheries, National Marine Fisheries Service.

[FR Doc. 2015-08471 Filed 4-13-15; 8:45 am]

BILLING CODE 3501-22-P